FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 7, 2018.

A. Federal Reserve Bank of Kansas City (Dennis Denney, Assistant Vice President) 1 Memorial Drive, Kansas City, Missouri 64198-0001:

1. Robert McMahan, John McMahan, and the McMahan Family Trust, Edythe McMahan, trustee, all of Altus, Oklahoma; to retain voting shares of First Altus Bancorp, Inc., Altus, Oklahoma, and for approval to join members of the McMahan family group, which owns shares of First Altus Bancorp, Altus, Oklahoma, and owns shares of Frazer Bank, Altus, Oklahoma.

2. Tanner Johnson, Courtland, Kansas; Travis Johnson, Wichita, Kansas; and Tara Renze, Leawood, Kansas, individually and as members of the Johnson Family Group; to retain voting shares of Swedish-American Bancshares, Inc., and thereby indirectly retain shares of Swedish-American State Bank, both of Courtland, Kansas.

Board of Governors of the Federal Reserve System, February 13, 2018.
Ann Misback,
Secretary of the Board.

[FR Doc. 2018-03262 Filed 2-15-18; 8:45 am]

BILLING CODE P